DEPARTMENT OF TRANSPORTATION

Pipeline and Hazardous Materials Safety Administration

[Docket No. PHMSA-2006-25551 (Notice No. 06-4)]

Notice of Information Collection Approval

AGENCY: Pipeline and Hazardous Materials Safety Administration (PHMSA), DOT.

ACTION: Notice of information collection approval.

SUMMARY: This notice announces Office of Management and Budget (OMB) approval and extension until May 31, 2009 for the following information collection requests (ICRs): OMB Control No. 2137-0510, “Radioactive (RAM) Transportation Requirements”; and OMB Control No. 2137-0612, “Hazardous Materials Security Plans.”

In addition, this notice announces OMB approval and extension until July 31, 2009 for the following ICRs: OMB Control No. 2137-0051, “Rulemaking, Special Permits, and Preemption Requirements”; and OMB Control No. 2137-0613, “Subsidiary Hazard Class and Number/Type of Packagings.”

DATES: The expiration dates for these ICRs are either May 31, 2009 or July 31, 2009, as indicated under the SUPPLEMENTARY INFORMATION section of this notice.

ADDRESSES: Requests for a copy of an information collection should be directed to Deborah Boothe or T. Glenn Foster, Office of Hazardous Materials Standards (PHH-11), Pipeline and Hazardous Materials Safety Administration, Room 8430, 400 Seventh Street, SW., Washington, DC 20590-0001.

FOR FURTHER INFORMATION CONTACT: Deborah Boothe or T. Glenn Foster, Office of Hazardous Materials Standards (PHH-11), Pipeline and Hazardous Materials Safety Administration, Room 8430, 400 Seventh Street, SW., Washington, DC 20590-0001, Telephone (202) 366-8553.

SUPPLEMENTARY INFORMATION: Office of Management and Budget (OMB) regulations (5 CFR 1320) implementing provisions of the Paperwork Reduction Act of 1995 (P.L. 104-13) require that interested members of the public and affected agencies have an opportunity to comment on information collection and recordkeeping activities (see 5 CFR 1320.8(s)) and specify that no person is required to respond to an information collection unless it displays a valid OMB control number. In accordance with the Paperwork Reduction Act of 1995, PHMSA has received OMB approval for renewal of the following ICRs:

OMB Control Number: 2137-0510.

Title: “Radioactive (RAM) Transportation Requirements.”

Expiration Date: May 31, 2009.

OMB Control Number: 2137-0612.

Title: “Hazardous Materials Security Plans.”

Expiration Date: May 31, 2009.

OMB Control Number: 2137-0051.

Title: “Rulemaking, Special Permits, and Preemption Requirements.”

Expiration Date: July 31, 2009.

OMB Control Number: 2137-0613.

Title: “Subsidiary Hazard Class and Number/Type of Packagings.”

Expiration Date: July 31, 2009.

Issued in Washington, DC on August 7, 2006.
Edward T. Mazzullo,
Director, Office of Hazardous Materials Standards.

[FR Doc. E6-13203 Filed 8-10-06; 8:45 am]

BILLING CODE 4910-60-P